DEPARTMENT OF DEFENSE

Department of the Navy

Notice of Intent To Grant Exclusive Patent License; Richard Scheps

SUMMARY: The Department of the Navy hereby gives notice of a prospective license to Richard Scheps to the Government-owned invention described as “INTERNALLY FOLDED SCALABLE LASER”.

DATES: Anyone wishing to object to the grant of this license must file written objections along with supporting evidence, if any, not later than July 14, 2000.

ADDRESSES: Written objections are to be filed with the Office of Patent Counsel, Space and Naval Warfare Systems Center, D0012, 53510 Silvergate Ave., Rm 103, San Diego, CA 92152-5765. Kindly reference N.C. 73421 in all correspondence directed to this matter.

FOR FURTHER INFORMATION CONTACT: Mr. Harvey Fendelman, Patent Counsel, Space and Naval Warfare Systems Center, Code D0012, 53510 Silvergate Ave., Rm 103, San Diego, CA 92152-5765, telephone (619) 553-3001.

Authority: 35 U.S.C. 207, 37 CFR part 404.

Dated: April 26, 2000.
J.L. Roth,
Lieutenant Commander, Judge Advocate General's Corps, U.S. Navy, Federal Register Liaison Officer.

[FR Doc. 00-12075 Filed 5-12-00; 8:45 am]

BILLING CODE 3810-FF-P